DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Wednesday, July 7, 2004, announcing the anticipated availability of funds for family planning services grants. This notice contained an error. An eligible Population/area was not listed as available for competition in 2005. A document correcting the omission of the Seattle Population/area as competitive in 2005 was published in the Federal Register of Tuesday, August 10, 2004. Since that time, two additional Populations/areas, Illinois, Chicago area and Arizona, Navajo Nation, have become available for competition in 2005. This document corrects the Federal Register notice of Wednesday, July 7, 2004, to include all Populations/areas available for competition in 2005.

FOR FURTHER INFORMATION CONTACT: Susan B. Moskosky, 301-594-4008.

Correction

In the Federal Register of July 7, 2004, FR Doc. 03-15514, on page 41,114, in the second column under II. Award Information, correct the 6th and 7th lines of the first paragraph to read “$47 million for competing Title X family planning services grant awards in 19;” and on page 41,115, correct Table I to read:

Table I
States/populations/areas to be served | Approximate funding available | Application due date | Approximate grant funding date
Region I:
Massachusetts | $5,217,000 | 09-01-04 | 01-01-05
Region II:
New York State | 9,635,000 | 03-01-05 | 07-01-05
Puerto Rico | 2,389,000 | 03/01/05 | 07/01/05
Region III:
Washington, D.C. | 1,053,000 | 09-01-04 | 01-01-05
Region IV:
Kentucky | 5,203,000 | 03-01-05 | 07-01-05
South Carolina | 5,569,000 | 03-01-05 | 07-01-05
Tennessee | 5,914,000 | 03-01-05 | 07-01-05
Region V:
Illinois, Chicago area | 200,225 | 06-01-05 | 09-30-05
Region VI:
Arkansas | 3,241,000 | 11-01-04 | 03-01-05
New Mexico | 2,228,000 | 09-01-04 | 01-01-05
Region VII:
Kansas | 2,332,000 | 03-01-05 | 07-01-05
Region VIII:
No areas competitive in FY 2005
Region IX:
Gila River Indian Community | 251,000 | 03-01-05 | 07-01-05
Government of Guam | 452,000 | 03-01-05 | 07-01-05
Republic of Palau | 99,000 | 03-01-05 | 07-01-05
Federated States of Micronesia | 411,000 | 03-01-05 | 07-01-05
Arizona, Navajo Nation | 640,000 | 03-01-05 | 07-01-05
Region X:
Idaho | 1,318,000 | 03-01-05 | 07-01-05
Oregon, Multnomah County | 330,000 | 03-01-05 | 07-01-05
Washington, Seattle | 158,450 | 03-01-05 | 07-01-05

Dated: November 12, 2004.
Alma L. Golden,
Deputy Assistant Secretary for Population Affairs.

[FR Doc. 04-25758 Filed 11-19-04; 8:45 am]

BILLING CODE 4150-34-P